DEPARTMENT OF THE INTERIOR

National Park Service

[2253-665]

Notice of Inventory Completion: California Department of Parks and Recreation, Sacramento, CA

AGENCY: National Park Service, Interior.

ACTION: Notice.

SUMMARY: The California Department of Parks and Recreation has completed an inventory of human remains, in consultation with the appropriate Indian tribes, and has determined that there is a cultural affiliation between the human remains and present-day Indian tribes. Representatives of any Indian tribe that believes itself to be culturally affiliated with the human remains may contact the California Department of Parks and Recreation. Repatriation of the human remains to the Indian tribes stated below may occur if no additional claimants come forward.

DATES: Representatives of any Indian tribe that believes it has a cultural affiliation with the human should contact the California Department of Parks and Recreation at the address below by May 2, 2012.

ADDRESSES: Rebecca Carruthers, NAGPRA Coordinator, California Department of Parks and Recreation, 1416 9th Street, Room 902, Sacramento, CA 95814, telephone (916) 653-8893.

SUPPLEMENTARY INFORMATION: Notice is here given in accordance with the Native American Graves Protection and Repatriation Act (NAGPRA), 25 U.S.C. 3003, of the completion of an inventory of human remains under the control of the California Department of Parks and Recreation. The human remains were removed from three sites located in San Diego County, CA.

This notice is published as part of the National Park Service's administrative responsibilities under NAGPRA, 25 U.S.C. 3003(d)(3). The determinations in this notice are the sole responsibility of the museum, institution or Federal agency that has control of the Native American human remains. The National Park Service is not responsible for the determinations in this notice.

Consultation

A detailed assessment of the human remains was made by the California Department of Parks and Recreation professional staff in consultation with representatives of the Campo Band of Diegueno Mission Indians of the Campo Indian Reservation, California; Capitan Grande Band of Diegueno Mission Indians of California: Barona Group of Capitan Grande Band of Mission Indians of the Barona Reservation, California, and Viejas (Baron Long) Group of Capitan Grande Band of Mission Indians of the Viejas Reservation, California; Ewiiaapaayp Band of Kumeyaay Indians, California; Iipay Nation of Santa Ysabel, California (formerly the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Tribes”).

History and description of the remains

The human remains were removed from three sites located in San Diego County, CA. The geographical location of these three sites indicates that the human remains were recovered within the historically documented territory of the Kumeyaay. The traditional territory of the Kumeyaay includes a significant portion of present-day San Diego County up to the Aqua Hedionda area and inland along the San Felipe Creek (just south of Borrego Springs). Bound to the east by the Sand Hills in Imperial County and includes the southern end of the Salton Basin and all of the Chocolate Mountains, the territory extends southward to Todos Santos Bay, Laguna Salada and along the New River in northern Baja California. The central and southern portions of Anza Borrego Desert State Park lie within the traditional territory of the Kumeyaay.

In 1975, human remains representing, at minimum, one individual were removed from site CA-SDI-4010 (McCallister) in San Diego County, CA, by the Archaeological Survey Association. No known individual was identified. No associated funerary objects are present. The age of the human remains is unknown.

At an unknown date prior to 1977, cremated human remains representing, at minimum, one individual were removed from an unidentified site within the Mason Valley area of Anza Borrego Desert State Park. The human remains were donated by Lloyd T. Findley to the Colorado Desert District of the California Department of Parks and Recreation in 1977. No known individual was identified. No associated funerary objects are present. The age of the human remains is unknown.

At an unknown date, cremated human remains representing, at minimum, one individual were removed from an unidentified site in Ocotillo, CA. The human remains were collected by Chester Qualey who reported the remains as being “strewn across desert from cremation vessel in disturbed area.” No known individual was identified. No associated funerary objects are present. The age of the human remains is unknown.

The human remains listed above were stored at facilities within the Colorado Desert District of the California Department of Parks and Recreation until an inventory effort was begun in 2004. Since then, the remains have been stored at the Bigole Archaeological Research Center (BARC-2) in Borrego Springs, CA.

Determinations made by the California Department of Parks and Recreation

Officials of the California Department of Parks and Recreation have determined that:

• Pursuant to 25 U.S.C. 3001(9), the human remains described in this notice represent the physical remains of three individuals of Native American ancestry.

• Pursuant to 25 U.S.C. 3001(2), there is a relationship of shared group identity that can be reasonably traced between the Native American human remains and The Tribes.

Additional Requestors and Disposition

Representatives of any Indian tribe that believes itself to be culturally affiliated with the human remains should contact Rebecca Carruthers, NAGPRA Coordinator, California Department of Parks and Recreation, 1416 9th Street, Room 902, telephone (916) 653-8893, before May 2, 2012. Repatriation of the human remains to The Tribes may proceed after that date if no additional claimants come forward.

The California Department of Parks and Recreation is responsible for notifying The Tribes that this notice has been published.

Dated: March 28, 2012.
Sherry Hutt,
Manager, National NAGPRA Program.

[FR Doc. 2012-7891 Filed 3-30-12; 8:45 am]

BILLING CODE 4312-50-P